FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010099-044.

Title: International Council of Containership Operators.

Parties: A.P. Moller-Maersk A/S; ANL Container Line Pty Ltd.; American President Lines, Ltd.; APL Co. Pte. Ltd.; APL Limited; Atlantic Container Line AB; China Shipping Container Lines Co., Ltd.; CMA CGM, S.A.; Companhia Libra de Navegacao; Compania Sud-Americana de Vapores S.A.; COSCO Container Lines Company Limited; CP Ships USA LLC; Crowley Maritime Corporation; Delmas SAS; Evergreen Marine Corporation (Taiwan), Ltd.; Hamburg-Sud; Hanjin Shipping Co., Ltd.; Hapag-Lloyd AG; Hyundai Merchant Marine Co., Ltd.; Kawasaki Kisen Kaisha, Ltd.; Malaysian International Shipping Company Berhad; Mediterranean Shipping Company S.A.; Mitsui O.S.K. Lines, Ltd.; Montemar Maritima S.A.; Neptune Orient Lines, Ltd.; Nippon Yusen Kaisha; Norasia Container Line Limited; Orient Overseas Container Line, Limited; Pacific International Lines (Pte) Ltd.; Safmarine Container Line N.V.; United Arab Shipping Company (S.A.G.); Wan Hai Lines Ltd.; Yang Ming Transport Marine Corp.; and Zim Integrated Shipping Services Ltd.

Filing Party: John Longstreth, Esq.; Preston Gates Ellis & Rouvelas Meeds LLP; 1735 New York Avenue, Suite 500; Washington, DC 20006-5209.

Synopsis: The amendment reflects the organizational consolidation of Hapag-Lloyd and the integration of the CP Ships companies under Hapag-Lloyd.

Agreement No.: 011938-002.

Title: HSDG/Alianca/CSAV/Libra/Montemar Cooperative Working Agreement.

Parties: Hamburg-Sud; Alianca Navegacao e Logistica Ltda. e CIA; Compania Sud Americana de Vapores, S.A.; Companhia Libra de Navegacao; and Montemar Maritima S.A.

Filing Party: Wayne R. Rohde, Esq.; Sher & Blackwell LLP; 1850 M Street, NW.; Suite 900; Washington, DC 20036.

Synopsis: The amendment would revise Article 5.1(a) to authorize the chartering of additional space to Hamburg-Sud and Alianca and the sub-chartering of such space by these lines to CMA CGM. It also makes a corresponding change and a technical correction to Article 5.1(c).

Agreement No.: 011972.

Title: HSDG/Alianca/CMA CGM Space Charter Agreement.

Parties: Alianca Navegacao e Logistica Ltda e CIA (“Alianca”); CMA CGM S.A.; and Hamburg-Sudamerikanische Dampfschifffahrts-Gesellschaft KG (“Hamburg-Sud”).

Filing Party: Wayne R. Rohde, Esq.; Sher & Blackwell LLP; 1850 M Street, NW.; Suite 900; Washington, DC 20036.

Synopsis: The agreement would authorize Hamburg-Sud and Alianca to charter space to CMA CGM between the U.S. East Coast and Brazil and Venezuela. It would also authorize the parties to engage in a limited range of cooperative activities in connection with the chartering of space.

By Order of the Federal Maritime Commission.
Dated: August 25, 2006.
Bryant L. VanBrakle,
Secretary.

[FR Doc. E6-14448 Filed 8-29-06; 8:45 am]

BILLING CODE 6730-01-P